DEPARTMENT OF TRANSPORTATION

Federal Aviation Administration

14 CFR Part 97

[Docket No. 31274; Amdt. No. 3871]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions areneeded because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 1, 2019. The compliance date for each SIAP, associated Takeoff Minimums, and ODP is specified in the amendatory provisions.

The incorporation by reference of certain publications listed in the regulations is approved by the Director of the Federal Register as of October 1, 2019.

ADDRESSES: Availability of matters incorporated by reference in the amendment is as follows:

For Examination

1. U.S. Department of Transportation, Docket Ops-09M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on September 20, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 7 November 2019

Le Roy, NY, Le Roy, RNAV (GPS) RWY 10, Orig-D

Le Roy, NY, Le Roy, RNAV (GPS) RWY 28, Orig-E

Effective 5 December 2019

Nelson Lagoon, AK, Nelson Lagoon, BINAL TWO Graphic DP

Nelson Lagoon, AK, Nelson Lagoon, RNAV (GPS) RWY 8, Amdt 1

Nelson Lagoon, AK, Nelson Lagoon, RNAV (GPS) RWY 26, Amdt 1

Nelson Lagoon, AK, Nelson Lagoon, Takeoff Minimums and Obstacle DP, Amdt 1

Fort Payne, AL, Isbell Field, NDB-A, Amdt 1A, CANCELLED

Russellville, AR, Russellville Rgnl, Takeoff Minimums and Obstacle DP, Amdt 2

Ontario, CA, Ontario Intl, RNAV (RNP) Z RWY 26L, Amdt 2

Ontario, CA, Ontario Intl, RNAV (RNP) Z RWY 26R, Amdt 2

Meriden, CT, Meriden Markham Muni, RNAV (GPS) RWY 36, Orig-E

Williston, FL, Williston Muni, VOR RWY 23, Amdt 1B, CANCELLED

Alma, GA, Bacon County, RNAV (GPS) RWY 16, Amdt 3

Alma, GA, Bacon County, RNAV (GPS) RWY 34, Amdt 2

Alma, GA, Bacon County, Takeoff Minimums and Obstacle DP, Orig-B

Atlanta, GA, DeKalb-Peachtree, VOR/DME-D, Amdt 1A, CANCELLED

Cartersville, GA, Cartersville, LOC RWY 19, Amdt 3B, CANCELLED

LaGrange, GA, LaGrange-Callaway, ILS OR LOC RWY 31, Amdt 3

LaGrange, GA, LaGrange-Callaway, RNAV (GPS) RWY 3, Amdt 1

LaGrange, GA, LaGrange-Callaway, RNAV (GPS) RWY 13, Amdt 1

LaGrange, GA, LaGrange-Callaway, RNAV (GPS) RWY 31, Amdt 1

LaGrange, GA, LaGrange-Callaway, VOR RWY 13, Amdt 16A, CANCELLED

Ames, IA, Ames Muni, ILS OR LOC RWY 1, Amdt 3A

Mattoon/Charleston, IL, Coles County Memorial, RNAV (GPS) RWY 29, Amdt 1B

South Bend, IN, South Bend Intl, ILS OR LOC RWY 9R, Amdt 10A

Atwood, KS, Atwood-Rawlins County City-County, Takeoff Minimums and Obstacle DP, Orig-A

Garden City, KS, Garden City Rgnl, ILS OR LOC RWY 35, Amdt 2

Garden City, KS, Garden City Rgnl, RNAV (GPS) RWY 12, Orig-A

Garden City, KS, Garden City Rgnl, RNAV (GPS) RWY 17, Orig-A

Garden City, KS, Garden City Rgnl, RNAV (GPS) RWY 30, Orig-A

Garden City, KS, Garden City Rgnl, RNAV (GPS) RWY 35, Orig-A

Garden City, KS, Garden City Rgnl, VOR RWY 35, Amdt 2A

Pratt, KS, Pratt Rgnl, NDB RWY 17, Amdt 5A, CANCELLED

St Francis, KS, Cheyenne County Muni, RNAV (GPS) RWY 14, Orig-A

Frederick, MD, Frederick Muni, ILS OR LOC RWY 23, Amdt 6

Howell, MI, Livingston County Spencer J Hardy, ILS OR LOC RWY 13, Amdt 1B

Howell, MI, Livingston County Spencer J Hardy, RNAV (GPS) RWY 13, Amdt 2B

Brainerd, MN, Brainerd Lakes Rgnl, RNAV (GPS) RWY 34, Orig-B

Cook, MN, Cook Muni, RNAV (GPS) RWY 13, Orig-D

Cook, MN, Cook Muni, RNAV (GPS) RWY 31, Amdt 1D

Ely, MN, Ely Muni, VOR/DME RWY 12, Amdt 5, CANCELLED

Roseau, MN, Roseau Muni/Rudy Billberg Field, RNAV (GPS) RWY 16, Orig-A

Two Harbors, MN, Richard B Helgeson, RNAV (GPS) RWY 6, Orig-C

Winona, MN, Winona Muni-Max Conrad Fld, ILS Z OR LOC Z RWY 30, Orig-B

Lamar, MO, Lamar Muni, RNAV (GPS) RWY 3, Amdt 1B

Lamar, MO, Lamar Muni, RNAV (GPS) RWY 17, Orig-B

Warrensburg, MO, Skyhaven, VOR-A, Amdt 3A

Kalispell, MT, Glacier Park Intl, ILS OR LOC RWY 2, Amdt 8

Engelhard, NC, Hyde County, RNAV (GPS) RWY 11, Orig-A

Williston, ND, Sloulin Field Intl, Takeoff Minimums and Obstacle DP, Amdt 6, CANCELLED

Ogallala, NE, Searle Field, VOR RWY 26, Amdt 1D

Manchester, NH, Manchester, ILS OR LOC RWY 35, ILS RWY 35 (SA CAT I), ILS RWY 35 (CAT II), ILS RWY 35 (CAT III), Amdt 4A

Hobbs, NM, Lea County Rgnl, VOR OR TACAN RWY 21, Amdt 9D

Akron, OH, Akron-Canton Rgnl, RADAR 1, Amdt 24, CANCELLED

Cadiz, OH, Harrison County, VOR-A, Amdt 1A, CANCELLED

Caldwell, OH, Noble County, VOR-A, Amdt 1B, CANCELLED

Cambridge, OH, Cambridge Muni, VOR-A, Amdt 4A, CANCELLED

Columbus, OH, Bolton Field, ILS OR LOC RWY 4, Amdt 5B

Mansfield, OH, Mansfield Lahm Regional, RADAR 1, Amdt 4A, CANCELLED

Woodsfield, OH, Monroe County, RNAV (GPS) RWY 25, Orig-C

Ada, OK, Ada Rgnl, VOR RWY 18, Amdt 2, CANCELLED

Durant, OK, Durant Rgnl—Eaker Field, RNAV (GPS) RWY 17, Amdt 2

Durant, OK, Durant Rgnl—Eaker Field, RNAV (GPS) RWY 35, Amdt 2

Durant, OK, Durant Rgnl—Eaker Field, Takeoff Minimums and Obstacle DP, Amdt 1

Durant, OK, Durant Rgnl—Eaker Field, VOR RWY 35, Amdt 1

Fairview, OK, Fairview Muni, RNAV (GPS) RWY 17, Amdt 1A

Hugo, OK, Stan Stamper Muni, RNAV (GPS) RWY 17, Amdt 1A

McAlester, OK, McAlester Rgnl, RNAV (GPS) RWY 20, Amdt 1A

McAlester, OK, McAlester Rgnl, VOR RWY 20, Amdt 2H, CANCELLED

Oklahoma City, OK, Will Rogers World, RNAV (GPS) Y RWY 17R, Amdt 5A

Pryor, OK, Mid-America Industrial, RNAV (GPS) RWY 36, Orig-A

Stigler, OK, Stigler Rgnl, RNAV (GPS) RWY 35, Amdt 1D

Pendleton, OR, Eastern Oregon Rgnl at Pendleton, ILS OR LOC RWY 26, Amdt 25C

Pendleton, OR, Eastern Oregon Rgnl at Pendleton, RNAV (GPS) RWY 8, Amdt 1

Pendleton, OR, Eastern Oregon Rgnl at Pendleton, RNAV (GPS) RWY 26, Orig-D

Pendleton, OR, Eastern Oregon Rgnl at Pendleton, Takeoff Minimums and Obstacle DP, Amdt 5

Pendleton, OR, Eastern Oregon Rgnl at Pendleton, VOR RWY 8, Amdt 15B

Grove City, PA, Grove City, Takeoff Minimums and Obstacle DP, Amdt 4A

Grove City, PA, Grove City, VOR-A, Amdt 7A

York, PA, York, RNAV (GPS) RWY 17, Amdt 2D

York, PA, York, RNAV (GPS) RWY 35, Amdt 1D

Andrews, SC, Robert F Swinnie, NDB RWY 36, Orig-B

Houston, TX, George Bush Intercontinental/Houston, ILS OR LOC RWY 27, ILS RWY 27 (SA CAT I), ILS RWY 27 (CAT II), ILS RWY 27 (CAT III), Amdt 11B

Richmond, VA, Richmond Intl, RNAV (GPS) RWY 7, Amdt 1B, CANCELLED

Richmond, VA, Richmond Intl, RNAV (GPS) RWY 25, Amdt 2A, CANCELLED

Richmond, VA, Richmond Intl, VOR RWY 25, Amdt 16B, CANCELLED

Pasco, WA, Tri-Cities, ILS OR LOC RWY 21R, Amdt 13B

Pasco, WA, Tri-Cities, RNAV (GPS) Y RWY 30, Amdt 3A

Pasco, WA, Tri-Cities, VOR RWY 21R, Amdt 7A

Pasco, WA, Tri-Cities, VOR RWY 30, Amdt 5B

Amery, WI, Amery Muni, RNAV (GPS) RWY 18, Amdt 1B

Amery, WI, Amery Muni, RNAV (GPS) RWY 36, Amdt 1B

Janesville, WI, Southern Wisconsin Rgnl, RNAV (GPS) RWY 14, Amdt 1A

Janesville, WI, Southern Wisconsin Rgnl, RNAV (GPS) RWY 32, Orig-B

Mosinee, WI, Central Wisconsin, RNAV (GPS) RWY 17, Amdt 1C

Neillsville, WI, Neillsville Muni, NDB RWY 28, Amdt 7B, CANCELLED

Siren, WI, Burnett County, VOR RWY 5, Amdt 3, CANCELLED

Tomahawk, WI, Tomahawk Rgnl, RNAV (GPS) RWY 9, Amdt 2D

Wisconsin Rapids, WI, Alexander Field South Wood County, RNAV (GPS) RWY 20, Amdt 2A

Fairmont, WV, Fairmont Muni-Frankman Field, RNAV (GPS) RWY 23, Amdt 2

Fairmont, WV, Fairmont Muni-Frankman Field, VOR-A, Amdt 2

[FR Doc. 2019-20989 Filed 9-30-19; 8:45 am]

BILLING CODE 4910-13-P